DEPARTMENT OF DEFENSE

Department of the Army; Corps of Engineers

Public Hearing and Notice of Availability for the Draft Environmental Impact Statement for the Matagorda Ship Channel Improvement Project, Calhoun County and Matagorda County, TX

AGENCY: Department of the Army, U.S. Army Corps of Engineers, DoD.

ACTION: Notice of a availability.

SUMMARY: The U.S. Army Corps of Engineers, Galveston District announces the release of the Draft Environmental Impact Statement (DEIS), the public comment period, and the date and location of the Public Hearing, for the Calhoun County Navigation District's (CCND) proposed Matagorda Ship Channel Improvement Project (MSCIP).

DATES: The USACE Galveston District will be accepting written public comments on the DEIS through July 2, 2007. All comments must be postmarked by July 2, 2007.

ADDRESSES: You may send written comments to the USACE, Galveston District, Attn: Denise Sloan, P.O. Box 1229, Galveston, TX 77553-1229.

FOR FURTHER INFORMATION CONTACT: Questions about the proposed action and DEIS can be answered by Ms. Denise Sloan, (409) 766-3962.

SUPPLEMENTARY INFORMATION:

Authority: This Federal Action is not in consideration of a Department of the Army (DA) permit application for work under Section 10 of the Rivers and Harbors Act of 1899 (33 U.S.C. 403), Section 404 of the Clean Water Act (33 U.S.C. 1344), and Section 103 of the Marine Protection, Research, and Sanctuaries Act (MPRSA) (33 U.S.C. 1413).

Background: In January 2006, CCND submitted a DA permit application to widen and deepen the Matagorda Ship Channel (MSC) and to dredge a new turning basin and marine ship. It was determined that an Environmental Impact Statement would be required for the proposed project. Since the April 25, 2006, Scoping Meeting, the consulting firm of PBS&J, under the direction of the Galveston District, U.S. Army Corps of Engineers (USACE), prepared a DEIS for the proposed project. The DEIS is not available for public review and comment.

Project Description: The CCND proposes to deepen their berthing facilities at the Port of Port Lavaca-Port Comfort (Port), enlarge the approximately 26.6-mile-long MSC from the existing turning basin at the Port (Channel Station 117+223), through Lavaca Bay and Matagorda Bay, and ending offshore in the Gulf of Mexico (Channel Station −23+100). A proposed new turning basin at the intersection of the MSC and the Alcoa Channel would have a 1,650-foot turning circle, and both the existing CCND berthing facilities, the existing and proposed turning basins, and a proposed new CCND berthing area adjacent to the proposed new turning basin would be dredged to a depth of −44 feet Mean Low Tide (MLT). The authorized channel dimensions of the MSC, from the Port to the Matagorda Peninsula, are 200 feet wide (bottom width) by −36 feet MLT deep, and the CCND proposes to enlarge this reach to 400 feet wide by −44 feet MLT deep (plus 2 feet of advanced maintenance depth and 2 feet of overdepth). The existing authorized channel dimensioned through the Matagorda Peninsula are 300 feet wide by −36 feet MLT deep, and the CCND proposes to enlarge this reach to 600 feet wide by −46 feet MLT deep (plus 3 feet of advanced maintenance and 2 feet of overdepth). In the Gulf of Mexico, the existing authorized channel dimensions are 300 feet wide by −38 feet MLT deep, and CCND proposes to enlarge the offshore reach to 600 feet wide by −46 feet MLT deep (plus 3 feet of advanced maintenance and 2 feet of overdepth). The CCND proposes to use both hydraulic and mechanical dredges, including hopper dredges, to perform new work and maintenance dredging of the proposed project. Approximately 46.5 million cubic yards of new work dredged material would be generated from the proposed widening and deepening project. Maintenance dredging of the proposed channel would generate approximately 257.5 million cubic yards of material during the 50-year planning period. Dredged material would be used to create or protect habitats, nourish beaches, and cap mercury-impacted sediments, and would be placed in confined dredged material placement areas (PAs) in bays and on land, and in unconfined PAs in Matagorda Bay and in unconfined ocean dredged material disposal sites (ODMDS) in the Gulf of Mexico. Additional dredging and placement of 400,000 cubic yards of dredged material would create a levee designed to protect habitat.

Section 103 of the Marine Protection, Research, and Sanctuaries Act (MPRSA): Section 103 of the MPRSA authorizes the USACE to permit the placement of dredged material within an ODMDS, subject to EPA concurrence and use of the EPA's dumping criteria. With concurrence from the EPA, the placement of approximately 11.9 million cubic yards of new work dredged material from construction of the proposed project into a new, one-time use ODMDS may be authorized by the USACE under Section 103 of MPRSA. Similarly, with EPA concurrence, the USACE may authorize continued use of the existing maintenance material ODMDS following construction of the proposed project under Section 103 of MPRSA. Information associated with the Section 103 authorizations is included in the DEIS (primarily in Appendix L).

National Register of Historic Places: The staff archaeologist has reviewed the latest published version of the National Register of Historic Places, lists of properties determined eligible, and other sources of information. The following is current knowledge of the presence or absence of historic resources and the effects of the proposed project upon these properties: Remote sensing surveys have been completed for the majority of the project footprint in Matagorda and Lavaca bays and the Gulf of Mexico. Remote sensing surveys will be conducted for the following potentially affected areas that have not already surveyed: the proposed new-work ODMDS, three beach nourishment sites, and the remainder of two areas for proposed oyster bed creation. Additional close-order surveys will be conducted on 11 features within 164 ft of the proposed channel alignment. The close-order surveys will help identify features that need further investigation to determine significance. Close-order surveys will also be conducted on two features identified within, or within 164 ft of, a proposed in-bay PA that cannot be avoided. Archival research and terrestrial surveys will be conducted at the upland PA and along the three beach nourishment areas. In addition, limited terrestrial shoreline surveys will be conducted where one proposed PA would tie into the bluff. Coordination with the Texas Historical Commission (THC) is ongoing and will be continued to conduct additional surveys of impact areas, test potentially eligible sites, and manage data recovery or avoidance measures as necessary. Should the decision be made to issue a permit for the proposed MSCIP, it would be conditioned to require completion of historical and archeological surveys to meet National Historical Preservation Act Section 106 requirements. The CCND will obtain clearance from the THC and the USACE prior to performing construction activities in these areas.

Threatened and Endangered Species: Preliminary indications are that the proposed project may affect a few Federally listed endangered or threatened species. The project may affect and is likely to result in adverse effects to the following species: Loggerhead sea turtle, Kemp's ridley sea turtle, hawksbill sea turtle, and green sea turtle. The project, however, is unlikely to jeopardize/destroy or adversely modify critical habitat for any listed species. The piping plover may experience a beneficial effect from the proposed project resulting from habitat enhancement (i.e., shoreline nourishment) through beneficial use of dredged material. A draft Biological Assessment has been prepared and is presented to the U.S. Fish and Wildlife Service (FWS) and the National Marine Fisheries Service (NMFS) in the DEIS.

Essential Fish Habitat: Consultation for Essential Fish Habitat (EFH) of the Magnuson-Stevens Fishery Conservation and Management Act was initiated in April 2006 via the workshop prior to the public scoping meeting. Letters were also sent to the NMFS in May 2006. Our initial determination is that the proposed action would not have a substantial adverse impact on EFH or Federally managed fisheries in the Gulf of Mexico, but might result in a benefit to EFH species by increasing the productivity in the bay system. Our final determination relative to project impacts and the need for mitigation measures is subject to additional review by and coordination with the NMFS.

Other Agency Authorizations: Texas Coastal Zone consistency certification is required. The applicant has stated that the project is consistent with the Texas Coastal Management Program goals and policies and will be conducted in a manner consistent with said Program. Additional information can be found in Appendix P of the DEIS. The DEIS and Texas Coastal Consistency Determination have been submitted to the Coastal Coordination Council for review.

Availability of Draft Environmental Impact Statement (DEIS): Pursuant to Section 102(2)(c) of the National Environmental Policy Act (NEPA) of 1969, as amended and as implemented by the Council on Environmental Quality (40 CFR Parts 1500-1508) a DEIS for the proposed Matagorda Ship Channel Improvement Project has been filed with the EPA and is being made available to Federal, State, and local agencies and all interested parties. The DEIS can be viewed at http://www.swg.usace.army.mil/reg/pn.asp. Copies of the DEIS are available by contacting Ms. Denise Sloan. In addition, copies of the DEIS are available for viewing at the following libraries:

• Calhoun County Public Library, Port O'Connor Branch, P.O. Box 424, Port O'Connor, TX 77982.

• Calhoun County Public Library, Point Comfort Branch, P.O. Box 382, Point Comfort, TX 77978.

• Victoria Public Library, 302 N. Main, Victoria, TX 77901.

• Jackson County Memorial Library, 411 N. Wells, Room 121, Edna, TX 77957.

• Palacios Library, 326 Main St., Palacios, TX 77465.

• Matagorda County Library, Bay City Branch, 1100 7th St., Bay City, TX 77414.

Public Comment and Public Hearing: If you wish to voice your comments, a Public Hearing on the proposed project is scheduled for June 5, 2007, at the Bauer Community Center, 2300 North Highway 35, Port Lavaca, TX 77979. Poster presentations will be available for viewing and project team members will be present to discuss the DEIS at a Workshop that will precede the hearing. The Workshop will be conducted from 5 p.m. to 6:45 p.m. and the formal Hearing will commence at 7 p.m.

Public Interest Review Factors: The application will be reviewed in accordance with 33 CFR 320-330, the Regulatory Programs of the USACE, and other pertinent laws, regulations and executive orders. The decision whether to issue a permit will be based on an evaluation of the probable impacts, including cumulative impacts, of the proposed activity on the public interest. That decision will reflect the national concern for both protection and utilization of important resources. The benefits which reasonably may be expected to accrue from the proposal must be balanced against reasonably foreseeable detriments associated with the proposal. All factors which may be relevant to the proposal will be considered. These include, but are not limited to: Dredged material management, air quality, shoreline erosion, economics, general environmental concerns, historic resources, protected species, navigation, recreation, water and sediment quality, energy needs, safety, hazardous materials, and, in general, the welfare of the people.

Solicitation of Comments: The USACE is soliciting comments from the public, Federal, State, and local agencies and officials, Indian tribes, and other interested parties in order to consider and evaluate the impacts of this proposed activity. Any comments received will be considered by USACE to determine whether to issue, modify, condition or deny a permit for this proposal.To make this decision, comments will be considered in the evaluation of impacts on endangered species, historic properties, water quality, general environmental effects, and the other public interest factors listed above. Comments will be used in the preparation of the Final Environmental Impact Statement pursuant to NEPA. Comments are also used to determine the overall public interest of the proposed activity.

Brenda S. Bowen,
Army Federal Register Liaison Officer.

[FR Doc. 07-2339 Filed 5-17-07; 8:45 am]

BILLING CODE 3710-52-M